ENVIRONMENTAL PROTECTION AGENCY

[EPA-HQ-OPPT-2019-0578; FRL-10004-31]

Approvals and Denials of Test Marketing Exemptions for Certain New Chemicals Under TSCA

AGENCY: Environmental Protection Agency (EPA).

ACTION: Notice.

SUMMARY: This document provides notification of EPA's approvals and denials of applications for test marketing exemptions (TMEs) submitted under the Toxic Substances Control Act (TSCA) for certain new chemicals. The test marketing conditions are described in the TME applications and in this document.

FOR FURTHER INFORMATION CONTACT: For technical information contact: Meg Victor, New Chemicals Division (7405M), Office of Pollution Prevention and Toxics, Environmental Protection Agency, 1200 Pennsylvania Ave. NW, Washington, DC 20460-0001; telephone number: (202) 343-9193; email address: victor.meg@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action may be of interest to the chemical manufacturers and/or importers who submitted the TMEs to EPA and to the public in general. The Agency has not attempted to describe all the specific entities that may be affected by this action.

B. How can I get copies of this document and other related information?

The docket for this action, identified by docket identification (ID) number EPA-HQ-OPPT-2019-0578, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

II. What is the Agency's authority for taking this action?

TSCA section 5(h)(1) authorizes EPA to exempt persons from premanufacture notification (PMN) requirements and permit them to manufacture (which includes import) new chemicals for test marketing purposes, if the Agency finds that the manufacture, processing, distribution in commerce, use, and disposal of the chemicals for test marketing purposes will not present any unreasonable risk of injury to health or the environment, including an unreasonable risk to a potentially exposed or susceptible subpopulation identified by the Administrator for the specific conditions of use identified in the applications. The requirement to consider risks to a potentially exposed or susceptible subpopulation was added to TSCA section 5(h)(1) in 2016. EPA's regulations implementing TSCA section 5(h)(1) are found at 40 CFR 720.38.

TSCA section 5(h)(6) requires EPA to publish in the Federal Register notice of receipt of an application for a TME and of the disposition of the application. The implementing regulation (40 CFR 720.38(d)) indicates that EPA will publish a notice in the Federal Register explaining the reasons for approval or denial.

III. What action is the Agency taking?

EPA is publishing this document to announce TME approvals and denials. EPA determined that test marketing the new chemicals, under the conditions in the TME applications, will not present any unreasonable risk of injury to health or the environment; the Agency approved the TMEs listed in Unit IV. For those TMEs for which EPA made this approval after TSCA was amended in June 2016 by the Lautenberg Chemical Safety for the 21st Century Act, EPA's determination included an assessment of unreasonable risk to a potentially exposed or susceptible subpopulation identified by the Agency for the specific conditions of use identified in the applications.

EPA has denied the following TMEs because EPA was unable to determine that test marketing the new chemicals, under the conditions in the TME applications will not present any unreasonable risk of injury to health or the environment. For those TMEs for which EPA made this denial after TSCA was amended in June 2016, EPA's determination included an assessment of unreasonable risk to a potentially exposed or susceptible subpopulation identified by the Agency for the specific conditions of use identified in the applications.

TME-13-0004

Date of Receipt: November 26, 2012.

Notice of Receipt: December 26, 2012 (77 FR 76029; FRL-9373-1).

TME-13-0091

Date of Receipt: August 22, 2013.

Notice of Receipt: June 9, 2014 (79 FR 32939; FRL-9910-70).

TME-16-0004

Date of Receipt: November 3, 2015.

Notice of Receipt: January 12, 2016 (81 FR 1415; FRL-9940-47).

TME-16-0005

Date of Receipt: November 3, 2015.

Notice of Receipt: January 12, 2016 (81 FR 1415; FRL-9940-47).

TME-16-0013

Date of Receipt: December 15, 2015.

Notice of Receipt: February 11, 2016 (81 FR 7337; FRL-9942-09).

TME-16-0014

Date of Receipt: December 15, 2015.

Notice of Receipt: February 11, 2016 (81 FR 7337; FRL-9942-09).

TME-16-0015

Date of Receipt: December 15, 2015.

Notice of Receipt: February 11, 2016 (81 FR 7337; FRL-9942-09).

TME-17-0002

Date of Receipt: November 17, 2016.

Notice of Receipt: N/A.

TME-17-0003

Date of Receipt: April 5, 2017.

Notice of Receipt: July 7, 2017 (82 FR 31598; FRL-9962-98).

TME-17-0004

Date of Receipt: April 5, 2017.

Notice of Receipt: July 7, 2017 (82 FR 31598; FRL-9962-98).

TME-17-0005

Date of Receipt: April 5, 2017.

Notice of Receipt: July 7, 2017 (82 FR 31598; FRL-9962-98).

TME-17-0006

Date of Receipt: April 5, 2017.

Notice of Receipt: July 7, 2017 (82 FR 31598; FRL-9962-98).

TME-17-0007

Date of Receipt: April 5, 2017.

Notice of Receipt: July 7, 2017 (82 FR 31598; FRL-9962-98).

TME-17-0008

Date of Receipt: April 5, 2017.

Notice of Receipt: July 7, 2017 (82 FR 31598; FRL-9962-98).

TME-17-0009

Date of Receipt: April 13, 2017.

Notice of Receipt: July 7, 2017 (82 FR 31598; FRL-9962-98).

TME-17-0010

Date of Receipt: April 13, 2017.

Notice of Receipt: July 7, 2017 (82 FR 31598; FRL-9962-98).

TME-17-0011

Date of Receipt: April 13, 2017.

Notice of Receipt: July 7, 2017 (82 FR 31598; FRL-9962-98).

TME-17-0012

Date of Receipt: April 19, 2017.

Notice of Receipt: July 7, 2017 (82 FR 31598; FRL-9962-98).

TME-17-0013

Date of Receipt: April 19, 2017.

Notice of Receipt: July 7, 2017 (82 FR 31598; FRL-9962-98).

TME-18-0002

Date of Receipt: January 26, 2018.

Notice of Receipt: May 24, 2018 (83 FR 24110; FRL-9977-48).

IV. What restrictions apply to the approved TMEs?

The test market time period, production volume, number of customers, and use must not exceed specifications in the applications. All other conditions and restrictions described in the applications and in this document must also be met.

TME-12-0009

Date of Receipt: April 18, 2012.

Notice of Receipt: N/A.

Applicant: CBI.

Chemical: (Generic) Alkyl thiol, manuf. of, by-products from, distn. lights.

Use: (Generic) Intermediate in the production of a commercial product.

Production Volume: CBI.

Number of Customers: CBI.

Test Marketing Period: CBI days, commencing on first day of commercial manufacture.

TME-12-0010

Date of Receipt: April 18, 2012.

Notice of Receipt: N/A.

Applicant: CBI.

Chemical: (Generic) alkyl thiol, manuf. of, by-products from, distn. lights.

Use: (Generic) Intermediate in the production of a commercial product.

Production Volume: CBI.

Number of Customers: CBI.

Test Marketing Period: CBI days, commencing on first day of commercial manufacture.

TME-12-0014

Date of Receipt: August 27, 2012.

Notice of Receipt: October 10, 2012 (77 FR 61600; FRL-9363-2).

Applicant: Cytec Industries, Inc.

Chemical: (Generic) Substituted heteromonocycle, polymer with substituted alkane and substituted alkanediol, alkanoic acid substituted ester and substituted heteromonocyle homopolymer.

Use: Coating resin.

Production Volume: CBI.

Number of Customers: CBI.

Test Marketing Period: Forty-five days, commencing on first day of commercial manufacture.

TME-13-0001

Date of Receipt: October 22, 2012.

Notice of Receipt: December 14, 2012 (77 FR 74473; FRL-9338-5).

Applicant: Cytec Industries, Inc.

Chemical: (Generic) Alkenoic acid, ester with alkylpolyol, polymer with disubstituted alkane.

Use: (Generic) Coating resin.

Production Volume: CBI.

Number of Customers: CBI.

Test Marketing Period: Forty-five days, commencing on first day of commercial manufacture.

TME-13-0002

Date of Receipt: November 1, 2012.

Notice of Receipt: December 26, 2012 (77 FR 76029; FRL-9373-1).

Applicant: Cytec Industries, Inc.

Chemical: (Generic) Alkenenitrile, polymer with alkadiene, substituted alkyl-terminated, polymers with substituted carbonomocycles, alkoxy-terminated-substituted alkyl-alkadiene polymer, substituted carbomonocycle and halogen substituted carbomonocycle.

Use: (Generic) Resin for non-dispersive use.

Production Volume: CBI.

Number of Customers: CBI.

Test Marketing Period: Forty-five days, commencing on first day of commercial manufacture.

TME-13-0003

Date of Receipt: November 12, 2012.

Notice of Receipt: December 26, 2012 (77 FR 76029; FRL-9373-1).

Applicant: Cytec Industries, Inc.

Chemical: (Generic) Alkenoic acid, reaction product with alkylpolyol, polymers with substituted heteromonocycle.

Use: (Generic) Coating resin.

Production Volume: CBI.

Number of Customers: CBI.

Test Marketing Period: Forty-five days, commencing on first day of commercial manufacture.

TME-13-0007

Date of Receipt: January 31, 2013.

Notice of Receipt: March 22, 2013 (78 FR 17656; FRL-9380-1).

Applicant: H.B. Fuller Company.

Chemical: (Generic) Fatty acids, C18-unsatd., dimers, polymers with alkane acid, 1,6-hexanediol, 1,1′-methylenebis[4-isocyanatobenzene] and neopentyl glycol.

Use: (Generic) Industrial adhesive.

Production Volume: CBI.

Number of Customers: CBI.

Test Marketing Period: CBI days, commencing on first day of commercial manufacture.

TME-13-0008

Date of Receipt: February 19, 2013.

Notice of Receipt: May 15, 2013 (78 FR 28586; FRL-9383-9).

Applicant: Cytec Industries, Inc.

Chemical: (Generic) Alkenoic acid, polymer with alkadiene and alkenenitrile, substituted alkyl-terminated, polymers with substituted carbomonocycles, alkoxy-terminated-substituted alkyl-alkadiene polymer, substituted carbomonocycle and halogen substituted carbomonocycle.

Use: (Generic) Resin for non-dispersive uses.

Production Volume: CBI.

Number of Customers: CBI.

Test Marketing Period: Forty-five days, commencing on first day of commercial manufacture.

TME-13-0009

Date of Receipt: February 19, 2013.

Notice of Receipt: May 15, 2013 (78 FR 28586; FRL-9383-9).

Applicant: CBI.

Chemical: (Generic) Furandione derivative reaction products.

Use: (Generic) Production aid in refinery operations.

Production Volume: CBI.

Number of Customers: CBI.

Test Marketing Period: CBI days, commencing on first day of commercial manufacture.

TME-13-0010

Date of Receipt: May 6, 2013.

Notice of Receipt: June 9, 2014 (79 FR 32939; FRL-9910-70).

Applicant: CBI.

Chemical: (Generic) Alpha-olefins, polymers with maleic anhydride, alkyl esters.

Use: (Generic) Crude oil additive.

Production Volume: CBI.

Number of Customers: CBI.

Test Marketing Period: CBI days, commencing on first day of commercial manufacture.

TME-13-0053

Date of Receipt: August 14, 2013.

Notice of Receipt: June 9, 2014 (79 FR 32939; FRL-9910-70).

Applicant: CBI.

Chemical: (Generic) Amine capped fatty acid dimer polyamide.

Use: (Generic) Component in drilling fluids; (Generic) Component in resin coatings.

Production Volume: CBI.

Number of Customers: CBI.

Test Marketing Period: CBI days, commencing on first day of commercial manufacture.

TME-13-0054

Date of Receipt: August 7, 2013.

Notice of Receipt: June 9, 2014 (79 FR 32939; FRL-9910-70).

Applicant: CBI.

Chemical: (Generic) Cycloalkylamino oleylalkyl alkylamide acid salt.

Use: (Generic) Inhibitor for oil field applications.

Production Volume: CBI.

Number of Customers: CBI.

Test Marketing Period: CBI days, commencing on first day of commercial manufacture.

TME-13-0055

Date of Receipt: August 7, 2013.

Notice of Receipt: June 9, 2014 (79 FR 32939; FRL-9910-70).

Applicant: CBI.

Chemical: (Generic) Cycloalkylamino oleylalkyl alkylamide acid salt.

Use: (Generic) Inhibitor for oil field applications.

Production Volume: CBI.

Number of Customers: CBI.

Test Marketing Period: CBI days, commencing on first day of commercial manufacture.

TME-13-0056

Date of Receipt: August 7, 2013.

Notice of Receipt: June 9, 2014 (79 FR 32939; FRL-9910-70).

Applicant: CBI.

Chemical: (Generic) Cycloalkylamino oleylalkyl alkylamide acid salt.

Use: (Generic) Inhibitor for oil field applications.

Production Volume: CBI.

Number of Customers: CBI.

Test Marketing Period: CBI days, commencing on first day of commercial manufacture.

TME-13-0057

Date of Receipt: August 7, 2013.

Notice of Receipt: June 9, 2014 (79 FR 32939; FRL-9910-70).

Applicant: CBI.

Chemical: (Generic) Cycloalkylamino oleylalkyl alkylamide acid salt.

Use: (Generic) Inhibitor for oil field applications.

Production Volume: CBI.

Number of Customers: CBI.

Test Marketing Period: CBI days, commencing on first day of commercial manufacture.

TME-13-0058

Date of Receipt: August 7, 2013.

Notice of Receipt: June 9, 2014 (79 FR 32939; FRL-9910-70).

Applicant: CBI.

Chemical: (Generic) Cycloalkylamino oleylalkyl alkylamide acid salt.

Use: (Generic) Inhibitor for oil field applications.

Production Volume: CBI.

Number of Customers: CBI.

Test Marketing Period: CBI days, commencing on first day of commercial manufacture.

TME-13-0059

Date of Receipt: August 7, 2013.

Notice of Receipt: June 9, 2014 (79 FR 32939; FRL-9910-70).

Applicant: CBI.

Chemical: (Generic) Cycloalkylamino oleylalkyl alkylamide acid salt.

Use: (Generic) Inhibitor for oil field applications.

Production Volume: CBI.

Number of Customers: CBI.

Test Marketing Period: CBI days, commencing on first day of commercial manufacture.

TME-13-0060

Date of Receipt: August 12, 2013.

Notice of Receipt: June 9, 2014 (79 FR 32939; FRL-9910-70).

Applicant: CBI.

Chemical: (Generic) Cycloalkylamino cocoalkyl alkylamide acid salt.

Use: (Generic) Inhibitor for oil field applications.

Production Volume: CBI.

Number of Customers: CBI.

Test Marketing Period: CBI days, commencing on first day of commercial manufacture.

TME-13-0061

Date of Receipt: August 12, 2013.

Notice of Receipt: June 9, 2014 (79 FR 32939; FRL-9910-70).

Applicant: CBI.

Chemical: (Generic) Cycloalkylamino cocoalkyl alkylamide acid salt.

Use: (Generic) Inhibitor for oil field applications.

Production Volume: CBI.

Number of Customers: CBI.

Test Marketing Period: CBI days, commencing on first day of commercial manufacture.

TME-13-0062

Date of Receipt: August 12, 2013.

Notice of Receipt: June 9, 2014 (79 FR 32939; FRL-9910-70).

Applicant: CBI.

Chemical: (Generic) Cycloalkylamino cocoalkyl alkylamide acid salt.

Use: (Generic) Inhibitor for oil field applications.

Production Volume: CBI.

Number of Customers: CBI.

Test Marketing Period: CBI days, commencing on first day of commercial manufacture.

TME-13-0063

Date of Receipt: August 12, 2013.

Notice of Receipt: June 9, 2014 (79 FR 32939; FRL-9910-70).

Applicant: CBI.

Chemical: (Generic) Cycloalkylamino cocoalkyl alkylamide acid salt.

Use: (Generic) Inhibitor for oil field applications.

Production Volume: CBI.

Number of Customers: CBI.

Test Marketing Period: CBI days, commencing on first day of commercial manufacture.

TME-13-0064

Date of Receipt: August 12, 2013.

Notice of Receipt: June 9, 2014 (79 FR 32939; FRL-9910-70).

Applicant: CBI.

Chemical: (Generic) Cycloalkylamino cocoalkyl alkylamide acid salt.

Use: (Generic) Inhibitor for oil field applications.

Production Volume: CBI.

Number of Customers: CBI.

Test Marketing Period: CBI days, commencing on first day of commercial manufacture.

TME-13-0065

Date of Receipt: August 12, 2013.

Notice of Receipt: June 9, 2014 (79 FR 32939; FRL-9910-70).

Applicant: CBI.

Chemical: (Generic) Cycloalkylamino cocoalkyl alkylamide acid salt.

Use: (Generic) Inhibitor for oil field applications.

Production Volume: CBI.

Number of Customers: CBI.

Test Marketing Period: CBI days, commencing on first day of commercial manufacture.

TME-14-0002

Date of Receipt: January 10, 2014.

Notice of Receipt: June 9, 2014 (79 FR 32939; FRL-9910-70).

Applicant: CBI.

Chemical: (Generic) Modified essential oil.

Use: (Generic) Highly dispersive use.

Production Volume: CBI.

Number of Customers: CBI

Test Marketing Period: CBI days, commencing on first day of commercial manufacture.

TME-14-0003

Date of Receipt: March 7, 2014.

Notice of Receipt: June 9, 2014 (79 FR 32939; FRL-9910-70).

Applicant: CBI.

Chemical: (Generic) Substituted acid, electrophilic aromatic substitution products.

Use: (Generic) Foam suppressant.

Production Volume: CBI.

Number of Customers: CBI.

Test Marketing Period: CBI days, commencing on first day of commercial manufacture.

TME-14-0004

Date of Receipt: July 3, 2014.

Notice of Receipt: N/A.

Applicant: Clean Chemistry.

Chemical: (Generic) Organic peroxide.

Use: Water clarifying agent, odor control agent, bleaching agent, and general oxidant for water treatment; (Generic) Destructive use in fuel production.

Production Volume: CBI.

Number of Customers: Six.

Test Marketing Period: CBI days, commencing on first day of commercial manufacture.

TME-15-0001

Date of Receipt: November 21, 2014.

Notice of Receipt: N/A.

Applicant: Industrial Specialty Chemicals.

Chemical: CBI.

Use: Paint detackification.

Production Volume: CBI.

Number of Customers: CBI.

Test Marketing Period: CBI days, commencing on first day of commercial manufacture.

TME-15-0004

Date of Receipt: January 8, 2015.

Notice of Receipt: March 19, 2015 (80 FR 14374; FRL-9924-61).

Applicant: CBI.

Chemical: (Generic) Alkylaminopropanamide, N-[dialkylamino-propyl], salt.

Use: (Generic) Oil production.

Production Volume: CBI.

Number of Customers: CBI.

Test Marketing Period: CBI days, commencing on first day of commercial manufacture.

TME-15-0005

Date of Receipt: January 8, 2015.

Notice of Receipt: March 19, 2015 (80 FR 14374; FRL-9924-61).

Applicant: CBI.

Chemical: (Generic) Alkylaminopropanamide, N-[dialkylamino-propyl], salt.

Use: (Generic) Oil production.

Production Volume: CBI.

Number of Customers: CBI.

Test Marketing Period: CBI days, commencing on first day of commercial manufacture.

TME-15-0006

Date of Receipt: January 8, 2015.

Notice of Receipt: March 19, 2015 (80 FR 14374; FRL-9924-61).

Applicant: CBI.

Chemical: (Generic) Alkylaminopropanamide, N-[dialkylamino-propyl], salt.

Use: (Generic) Oil production.

Production Volume: CBI.

Number of Customers: CBI.

Test Marketing Period: CBI days, commencing on first day of commercial manufacture.

TME-15-0007

Date of Receipt: January 8, 2015.

Notice of Receipt: March 19, 2015 (80 FR 14374; FRL-9924-61).

Applicant: CBI.

Chemical: (Generic) Alkylaminopropanamide, N-[dialkylamino-propyl], salt.

Use: (Generic) Oil production.

Production Volume: CBI.

Number of Customers: CBI.

Test Marketing Period: CBI days, commencing on first day of commercial manufacture.

TME-15-0008

Date of Receipt: March 20, 2015.

Notice of Receipt: April 22, 2015 (80 FR 22512; FRL-9926-36).

Applicant: CBI.

Chemical: (Generic) Alkyl substituted cresol.

Use: (Generic) Intermediate.

Production Volume: CBI.

Number of Customers: CBI.

Test Marketing Period: CBI days, commencing on first day of commercial manufacture.

TME-15-0011

Date of Receipt: June 24, 2015.

Notice of Receipt: August 14, 2015 (80 FR 48855; FRL-9931-82).

Applicant: CBI.

Chemical: (Generic) Dialkylamino alkylamide salt.

Use: (Generic) Oil production.

Production Volume: CBI.

Number of Customers: CBI.

Test Marketing Period: CBI days, commencing on first day of commercial manufacture.

TME-15-0012

Date of Receipt: June 24, 2015.

Notice of Receipt: August 14, 2015 (80 FR 48855; FRL-9931-82).

Applicant: CBI.

Chemical: (Generic) Dialkylamino alkylamide salt.

Use: (Generic) Oil production.

Production Volume: CBI.

Number of Customers: CBI.

Test Marketing Period: CBI days, commencing on first day of commercial manufacture.

TME-15-0013

Date of Receipt: June 24, 2015.

Notice of Receipt: August 14, 2015 (80 FR 48855; FRL-9931-82).

Applicant: CBI.

Chemical: (Generic) Dialkylamino alkylamide salt.

Use: (Generic) Oil production.

Production Volume: CBI.

Number of Customers: CBI.

Test Marketing Period: CBI days, commencing on first day of commercial manufacture.

TME-15-0014

Date of Receipt: June 24, 2015.

Notice of Receipt: August 14, 2015 (80 FR 48855; FRL-9931-82).

Applicant: CBI.

Chemical: (Generic) Dialkylamino alkylamide salt.

Use: (Generic) Oil production.

Production Volume: CBI.

Number of Customers: CBI.

Test Marketing Period: CBI days, commencing on first day of commercial manufacture.

TME-16-0001

Date of Receipt: November 2, 2015.

Notice of Receipt: January 12, 2016 (81 FR 1415; FRL-9940-47).

Applicant: CBI.

Chemical: (Generic) Dialkylamino alkylamide salt.

Use: (Generic) Oil production.

Production Volume: CBI.

Number of Customers: CBI.

Test Marketing Period: CBI days, commencing on first day of commercial manufacture.

TME-16-0002

Date of Receipt: November 2, 2015.

Notice of Receipt: January 12, 2016 (81 FR 1415; FRL-9940-47).

Applicant: CBI.

Chemical: (Generic) Dialkylamino alkylamide salt.

Use: (Generic) Oil production.

Production Volume: CBI.

Number of Customers: CBI.

Test Marketing Period: CBI days, commencing on first day of commercial manufacture.

TME-16-0003

Date of Receipt: November 3, 2015.

Notice of Receipt: January 12, 2016 (81 FR 1415; FRL-9940-47).

Applicant: CBI.

Chemical: (Generic) Beta amino fatty ester.

Use: Chemical Intermediate.

Production Volume: CBI.

Number of Customers: CBI.

Test Marketing Period: CBI days, commencing on first day of commercial manufacture.

TME-16-0006

Date of Receipt: November 3, 2015.

Notice of Receipt: January 12, 2016 (81 FR 1415; FRL-9940-47).

Applicant: CBI.

Chemical: (Generic) Dialkylamino alkylamide.

Use: Chemical Intermediate.

Production Volume: CBI.

Number of Customers: CBI.

Test Marketing Period: CBI days, commencing on first day of commercial manufacture.

TME-16-0007

Date of Receipt: November 10, 2015.

Notice of Receipt: N/A.

Applicant: CBI.

Chemical: (Generic) Poly alkylimidazoline.

Use: (Generic) Emulsifier.

Production Volume: CBI.

Number of Customers: CBI.

Test Marketing Period: CBI days, commencing on first day of commercial manufacture.

TME-16-0008

Date of Receipt: November 10, 2015.

Notice of Receipt: N/A.

Applicant: CBI.

Chemical: (Generic) Poly alkylimidazoline.

Use: (Generic) Emulsifier.

Production Volume: CBI.

Number of Customers: CBI.

Test Marketing Period: CBI days, commencing on first day of commercial manufacture.

TME-16-0009

Date of Receipt: November 10, 2015.

Notice of Receipt: N/A.

Applicant: CBI.

Chemical: (Generic) Poly alkylimidazoline.

Use: (Generic) Emulsifier.

Production Volume: CBI.

Number of Customers: CBI.

Test Marketing Period: CBI days, commencing on first day of commercial manufacture.

TME-16-0010

Date of Receipt: November 10, 2015.

Notice of Receipt: N/A.

Applicant: CBI.

Chemical: (Generic) Poly alkylimidazoline.

Use: (Generic) Emulsifier.

Production Volume: CBI.

Number of Customers: CBI.

Test Marketing Period: CBI days, commencing on first day of commercial manufacture.

TME-16-0011

Date of Receipt: November 10, 2015.

Notice of Receipt: N/A.

Applicant: CBI.

Chemical: (Generic) Poly alkylimidazoline.

Use: (Generic) Emulsifier.

Production Volume: CBI.

Number of Customers: CBI.

Test Marketing Period: CBI days, commencing on first day of commercial manufacture.

TME-16-0012

Date of Receipt: November 10, 2015.

Notice of Receipt: N/A.

Applicant: CBI.

Chemical: (Generic) Poly alkylimidazoline.

Use: (Generic) Emulsifier.

Production Volume: CBI.

Number of Customers: CBI.

Test Marketing Period: CBI days, commencing on first day of commercial manufacture.

TME-16-0016

Date of Receipt: December 16, 2015.

Notice of Receipt: February 11, 2016 (81 FR 7337; FRL-9942-09).

Applicant: CBI.

Chemical: (Generic) Dialkylamino alkylamide inner salt.

Use: (Generic) Oil production.

Production Volume: CBI.

Number of Customers: CBI.

Test Marketing Period: CBI days, commencing on first day of commercial manufacture.

TME-16-0017

Date of Receipt: May 25, 2016.

Notice of Receipt: July 29, 2016 (81 FR 49976; FRL-9949-63) and September 6, 2017 (82 FR 42088; FRL-9965-05).

Applicant: CBI.

Chemical: (Generic) Modified vegetable oil.

Use: (Generic) Wax.

Production Volume: CBI.

Number of Customers: CBI.

Test Marketing Period: CBI days, commencing on first day of commercial manufacture.

TME-18-0001

Date of Receipt: November 16, 2017.

Notice of Receipt: May 22, 2018 (83 FR 23671; FRL-9972-08).

Applicant: CBI.

Chemical: (Generic) Renewable naptha.

Use: Component in automotive gasoline/transportation fuel for consumer use.

Production Volume: CBI.

Number of Customers: CBI.

Test Marketing Period: CBI days, commencing on first day of commercial manufacture.

TME-18-0003

Date of Receipt: July 17, 2018.

Notice of Receipt: October 22, 2018 (83 FR 53241; FRL-9985-20).

Applicant: CBI.

Chemical: (Generic) Alkylated diphenylamines, homopolymers.

Use: (Generic) Additive.

Production Volume: CBI.

Number of Customers: CBI.

Test Marketing Period: CBI days, commencing on first day of commercial manufacture.

EPA may impose restrictions considered appropriate by the Agency on test marketing activities and may modify or revoke this test marketing exemption upon receipt of any information that indicates the test marketing activity may present an unreasonable risk of injury to health and the environment. The following additional restrictions apply to these TMEs: A bill of lading accompanying each shipment must state that the use of the chemical is restricted to that approved in the TME. In addition, the applicant shall maintain the following records for 5 years after the date they are created, and shall make them available for inspection or copying in accordance with TSCA section 11:

1. Records of the quantity of the TME chemical produced and the date of manufacture.

2. Records of dates of the shipments to each customer and the quantities supplied in each shipment.

3. Copies of the bill of lading that accompanies each shipment of the TME chemical.

V. What was EPA's risk assessment for these approved TMEs?

EPA did not identify unreasonable health or environmental risks for the test market chemicals under the intended conditions of use described in the TME applications. Therefore, the test market activities will not present any unreasonable risk of injury to human health or the environment, including an unreasonable risk to a potentially exposed or susceptible subpopulation identified by the Administrator for the specific conditions of use identified in the applications.

VI. Can EPA change its decision on these approved TMEs in the future?

The Agency reserves the right to rescind approval or modify the conditions and restrictions of an exemption upon the receipt or evaluation of any information, new or existing, that indicates the test marketing activities may present an unreasonable risk of injury to human health or the environment.

Authority: 15 U.S.C. 2601 et seq.

Dated: June 11, 2021.
Madison Le,
Director, New Chemicals Division, Office of Pollution Prevention and Toxics.

[FR Doc. 2021-14259 Filed 7-2-21; 8:45 am]

BILLING CODE 6560-50-P